FEDERAL MARITIME COMMISSION

[Docket No. 17-02]

Notice of Filing of Complaint and Assignment; Hangzhou Qianwang Dress Co., Ltd. V. RDD Freight International Inc.

Notice is given that a complaint has been filed with the Federal Maritime Commission (Commission) by Hangzhou Qianwang Dress Co. Ltd., hereinafter “Complainant,” against RDD Freight International Inc., hereinafter “Respondent.” Complainant states it is a People's Republic of China Corporation that “manufactures apparel, including hats and gloves, and sells it to retailers in the United States.” Complainant alleges that Respondent is a Commission licensed non-vessel operating common carrier, an international freight forwarder (“FF”) and a New York corporation.

Complainant alleges that Respondent failed to wait for receipt of the original Bills of Lading or to get the Complainant's consent before releasing certain shipments of merchandise to the consignee. The consignee had not paid the Complainant for the merchandise at the time of release nor have they paid as of the date of this filing. By releasing the goods to the consignee, Complainant alleges that the Respondent “fail[ed] to establish, observe and enforce just and reasonable regulations and practices relating to or connected with receiving, handling, storing, or delivering property” which violates 46 U.S.C. 41102(c).

Complainant seeks reparations in the amount of $134,207.70, and other relief. The full text of the complaint can be found in the Commission's Electronic Reading Room at www.fmc.gov/17-02/.

This proceeding has been assigned to the Office of Administrative Law Judges. The initial decision of the presiding officer in this proceeding shall be issued by March 2, 2018, and the final decision of the Commission shall be issued by September 17, 2018.

Rachel E. Dickon,
Assistant Secretary.

[FR Doc. 2017-04511 Filed 3-7-17; 8:45 am]

BILLING CODE P